Proclamation 10117 of November 6, 2020

World Freedom Day, 2020

By the President of the United States of America

A Proclamation

On World Freedom Day, we commemorate the historic fall of the Berlin Wall in 1989, which liberated the people of East Germany from the grip of tyranny. This watershed event marked the triumph of freedom and liberty for hundreds of millions of people who rejected the oppression of Soviet communism and its Marxist-Leninist ideology. Today, we celebrate the blessings of freedom in Germany and across the world, and reaffirm our Nation's support for all who wish to be free.

Following World War II, the Soviet Union built an Iron Curtain between the East and West, isolating the city of West Berlin and shutting off the free flow of goods and people. Determined to prevent the light of liberty from being extinguished, our Nation stood with the United Kingdom and France against the Soviet demand that the West withdraw from Berlin. To defeat this demand for surrender, the United States Air Force and our allies fearlessly airlifted food, fuel, and supplies to the starving people of West Berlin, and together, we were resolved to restore freedom to the German people.

For almost 30 years, the Berlin Wall symbolized the divide between the free world and communism. On its eastern side, the rights that democratic societies hold dear—the fundamental freedoms of religion, speech, the press, association, and petition—were replaced by forced secularism, oppressive censorship, monolithic propaganda, and inhumane division. Hundreds of brave Germans died attempting to escape this brutal fate, as the Stasi used landmines, armed watchtowers, and barbed wire to intimidate those who dreamed of freedom and to kill and harm those who braved any attempt to escape. Those whose escapes failed, those who facilitated successful or attempted crossings, and those who crossed the Stasi in some other way were tortured, imprisoned, and executed in horrifying violations of human dignity and rights.

The United States always stood resolutely with the victims and survivors of the evil ideology that controlled East Germany and East Berlin. Our valiant response to Soviet oppression in Germany defined the Cold War, from President John F. Kennedy's declaration, “Ich bin ein Berliner,” in 1963 to President Ronald Reagan's momentous call, “Mr. Gorbachev, tear down this wall!” in 1987. Our founding principles of individual, God-given unalienable rights, human dignity, and equality of opportunity were embraced by the millions held in Soviet bondage, and ultimately won the ideological battle of the Cold War. As a result, we are able to celebrate Germany's reunification today, reaffirm our alliance, and recognize German contributions to modern day peace and prosperity.

This World Freedom Day, we honor all those who fought for freedom, endured injustice, and bravely resisted totalitarianism before the fall of the Berlin Wall. We also reassert our longstanding commitment to combat tyranny, uplift the voices of those held captive by communist regimes, and halt the spread of this brutal ideology at home and around the world.

NOW, THEREFORE, I, DONALD J. TRUMP, President of the United States of America, by virtue of the authority vested in me by the Constitution and the laws of the United States, do hereby proclaim November 9, 2020, as World Freedom Day. I call upon the people of the United States to observe this day with appropriate ceremonies and activities, reaffirming our dedication to freedom and democracy.

IN WITNESS WHEREOF, I have hereunto set my hand this sixth day of November, in the year of our Lord two thousand twenty, and of the Independence of the United States of America the two hundred and forty-fifth.

[FR Doc. 2020-25193

Filed 11-10-20; 11:15 am]

Billing code 3295-F1-P